NUCLEAR REGULATORY COMMISSION

[NRC-2008-0520; Docket Nos. 52-025 and 52-026]

Southern Nuclear Operating Company, et al.: Supplementary Notice of Hearing and Opportunity To Petition for Leave To Intervene on a Combined License Application for the Vogtle Electric Generating Plant Units 3 and 4

AGENCY: U.S. Nuclear Regulatory Commission.

ACTION: Supplementary notice of hearing and opportunity to petition for leave to intervene.

DATES: Petitions for leave to intervene must be filed by July 2, 2010.

I. Introduction

This proceeding concerns the application dated March 28, 2008, filed by Southern Nuclear Operating Company (SNC, the Applicant), acting on behalf of itself and Georgia Power Company, Oglethorpe Power Corporation (an Electric Membership Corporation), Municipal Electric Authority of Georgia, and the City of Dalton, Georgia, an incorporated municipality in the State of Georgia acting by and through its Board of Water, Light and Sinking Fund Commissioners (Dalton Utilities), pursuant to Subpart C of 10 CFR part 52 for a combined license (COL). The application was accepted for docketing on May 30, 2008. The docket numbers established for this application are 52-025 and 52-026.

The application requests approval of a COL for Vogtle Electric Generating Plant (Vogtle) Units 3 and 4, located in Burke County, Georgia. The Vogtle COL application incorporates by reference the Westinghouse AP1000 design certified in Appendix D to 10 CFR part 52, and the application to amend that certified design. The AP1000 amendment application is the subject of an ongoing rulemaking under docket number 52-006. The Vogtle COL application also references an Early Site Permit (ESP) that was the subject of an adjudicatory proceeding under docket number 52-011. That ESP application also included a request for a limited work authorization (LWA) to engage in selected construction activities as defined by 10 CFR 50.10. The Final Environment Impact Statement for the ESP was published on August 22, 2008. The ESP and accompanying LWA was issued on August 26, 2009.

On September 16, 2008, a notice of hearing and opportunity for leave to intervene was published by the United States Nuclear Regulatory Commission (NRC, the Commission) in the Federal Register (73 FR 53446) in this proceeding. That notice specified that a hearing to consider the COL application would be held at a time and place to be set in the future by the Commission or designated by the Atomic Safety and Licensing Board (Board). The notice also provided an opportunity for persons whose interest might be affected by the proceeding to petition for leave to intervene.

On October 2, 2009, SNC submitted to the NRC a supplement to its COL application requesting an LWA to engage in selected construction activities as defined by 10 CFR 50.10. As described by SNC, these activities would generally involve the “installation of reinforcing steel, sumps, and drain lines and other embedded items in the Nuclear Island (NI) foundation base slab and placement of concrete for the NI foundation base slab.” SNC provided additional information in support of its LWA request by letters dated February 5, 2010 and March 11, 2010. In light of the request for this additional authorization, the Commission herein dockets the LWA request and supplements its original notice of hearing of September 16, 2008, as follows:

The NRC staff will complete a detailed technical review of the COL application, including the LWA supplement requesting authority to perform selected construction activities as defined by 10 CFR 50.10, and will document its findings in a safety evaluation report (SER) and a supplement to the Vogtle ESP environmental impact statement (EIS). In addition, the Commission will refer a copy of the application to the Advisory Committee on Reactor Safeguards (ACRS) in accordance with 10 CFR 52.87, and the ACRS will report on those portions of the application that concern safety.

II. Petitions for Leave To Intervene

Requirements for petitions for leave to intervene are found in 10 CFR 2.309, “Hearing requests, Petitions to Intervene, Requirements for Standing, and Contentions.” Interested persons should consult 10 CFR part 2, section 2.309, which is available at the NRC's Public Document Room (PDR), located at O1 F21, One White Flint North, 11555 Rockville Pike, Rockville, MD 20852 (or call the PDR at (800) 397-4209 or (301) 415-4737). NRC regulations are also accessible electronically from the NRC's Electronic Reading Room on the NRC Web site at http://www.nrc.gov.

Any person whose interest may be affected by this proceeding and desires to participate as a party to this proceeding with respect to the LWA supplement to the COL application must file a written petition for leave to intervene in accordance with 10 CFR 2.309. Those permitted to intervene become parties to the proceeding, subject to any limitations in the order granting leave to intervene, and have the opportunity to participate fully in the conduct of the hearing. A person who is not a party may be permitted to make a limited appearance by making an oral or written statement of his or her position on the issues at any session of the hearing or any pre-hearing conference within the limits and conditions fixed by the presiding officer, but may not otherwise participate in the proceeding.

This supplementary notice does not affect the status of any person previously admitted as a party to this proceeding or provide any additional opportunity to any person to intervene on the basis of, or to raise matters encompassed within, the original notice of hearing published in the Federal Register on September 16, 2008 (73 FR 53446).

III. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/ e-submittals.html.

Once a participant has obtained a digital ID certificate and a docket has been created, the participant can then submit a request for hearing or petition for leave to intervene. Submissions should be in Portable Document Format (PDF) in accordance with NRC guidance available on the NRC public Web site at http://www.nrc.gov/site-help/ e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/ e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket, which is available to the public at http://ehd.nrc.gov/EHD_Proceeding/home.asp, unless excluded pursuant to an order of the Commission, or the presiding officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submissions.

Petitions for leave to intervene must be filed no later than 60 days from May 3, 2010. Non-timely filings will not be entertained absent a determination by the presiding officer that the petition or request should be granted or the contentions should be admitted, based on a balancing of the factors specified in 10 CFR 2.309(c)(1)(i)-(viii).

Any person who files a motion pursuant to 10 CFR 2.323 must consult with counsel for the applicant and counsel for the NRC staff who are listed below. Counsels for the applicant are M. Stanford Blanton, sblanton@balch.com, (205-226-3417), or Moanica M. Caston, mcaston@southernco.com (205-739-5738) or Kathryn M. Sutton, 202-739-5378, ksutton@morganlewis.com. Counsel for the NRC staff in this proceeding is Ann P. Hodgdon, (301) 415-1587, Ann.Hodgdon@nrc.gov.

Documents may be examined, and/or copied for a fee, at the NRC's Public Document Room (DPR), located at One White Flint North, 11555 Rockville Pike (first floor), Rockville, Maryland and will be accessible from the Agencywide Documents Access and Management System (ADAMS) Public Electronic Reading Room on the Internet at the NRC Web site, http://www.nrc.gov/reading-rm/adams.html. Persons who do not have access to ADAMS, or who encounter problems in accessing the documents located in ADAMS, should contact the NRC Public Document Room staff by telephone at 1-800-397-4209, (301) 415-4737 or by e-mail to pdr.resource@nrc.gov. The application is also available to local residents at the Burke County Library in Waynesboro, Georgia, and is available on the NRC Web page at http://www.nrc.gov/reactors/new-licensing/col/vogtle.html. The accession number for the application is ML081050133. The accession numbers for the October 2, 2009, supplement to the application are ML092960512 and ML092960549, and the accession numbers for the supporting information submitted February 5, 2010, and March 11, 2010, are ML100470600 and ML100740441.

To search for documents in ADAMS using Vogtle Units 3 and 4 COL application docket numbers, 52-025 and 52-026, one should enter the terms “05200025” and “05200026” in the “Docket Number” field when using either the Web-based search (advanced search) engine or the ADAMS FIND tool in Citrix. The Vogtle ESP can be found in ADAMS using the accession number ML092290157 or by going to http://www.nrc.gov/reactors/new-licensing/esp/vogtle.html. To search for documents on the Vogtle ESP docket, one should enter “05200011” in the “Docket Number” field in the web-based search (advanced search) engine or the ADAMS FIND tool.

The AP1000 DCD through Revision 15, which is incorporated by reference into Appendix D of Part 52, can be found by going to http://www.nrc.gov/reactors/new-reactors/design-cert/ap1000.html. The AP1000 DCD Revision 17 can be found using ADAMS accession number ML083230868 or by going to http://www.nrc.gov/reactors/new-reactors/design-cert/ap1000.html. To search for documents in ADAMS using the AP1000 DCD Revision 17 docket number 52-006, one should enter the term “05200006” in the ADAMS “Docket Number” field.

The Final Environmental Impact Statement for the Vogtle ESP can be found on the NRC Web site at http://www.nrc.gov/reactors/new-licensing/esp/vogtle.html, or under ADAMS accession numbers ML082240145, ML082240165, ML082260203, and ML082550040.

Dated at Rockville, Maryland, this 27th day of April 2010.
For the Nuclear Regulatory Commission,
Annette L. Vietti-Cook,
Secretary of the Commission.

[FR Doc. 2010-10234 Filed 4-30-10; 8:45 am]

BILLING CODE 7590-01-P